SOCIAL SECURITY ADMINISTRATION

[Docket No: SSA-2022-0024]

Agency Information Collection Activities: Comment Request

The Social Security Administration (SSA) publishes a list of information collection packages requiring clearance by the Office of Management and Budget (OMB) in compliance with Public Law 104-13, the Paperwork Reduction Act of 1995, effective October 1, 1995. This notice includes a new collection and revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2022-0024].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2022-0024].

SSA submitted the information collections below to OMB for clearance. Your comments regarding these information collections would be most useful if OMB and SSA receive them within 30 days from the date of this publication. To be sure we consider your comments, we must receive them no later than July 1, 2022. Individuals can obtain copies of these OMB clearance packages by writing to OR.Reports.Clearance@ssa.gov.

1. Disability Perception Survey (DPS)—0960-NEW.

Background

The Social Security Administration's (SSA's) Social Security Disability Insurance (SSDI) program provides crucial financial support to individuals unable to work due to a medical condition. Having access to and understanding information about SSDI among working adults is an important factor in connecting people with benefits. The purpose of the survey is to understand the type of information working adults currently have about the SSDI program to improve projections of disability applications and incidence.

SSA is requesting clearance to administer the Disability Perception Survey (DPS) to a sample of working age adult SSDI program recipients, and those who may qualify for this benefit, to capture attitudes and perceptions about SSDI among working-age adults in the general population, and to determine what roles those factors ultimately play in an individual's decision to apply to the program.

The DPS evaluation will consist of two parts: (1) The DPS administered to working-age adults (18 to 64 years of age) SSDI program recipients, and those who may qualify for SSDI benefits; and (2) links of the survey data, including the individuals' social security numbers, to individuals' administrative records for research purpose. SSA will use the data the DPS collects to learn about the average American SSDI adult recipient's knowledge and understanding of the SSDI program and about who qualifies for these benefits. Section 1110(a) of the Social Security Act (Act) gives the Commissioner of Social Security authorization to help fund research or demonstration projects relating to the prevention and reduction of dependency. SSA contracted with NORC at the University of Chicago to conduct the DPS data collection.

DPS Project Description

The DPS will focus on a series of multiple-choice, open-ended, and vignette-style questions across five topic areas:

• General knowledge about the SSDI program, including perspectives on the causes of disability, eligibility requirements, the likelihood of receiving benefits, and the documentation required to apply for the program;

• Perceptions about the impact of work-limiting impairments including how and to what degree people with disabilities participate in the workforce, their work outcomes, use of services, barriers to work, and knowledge about SSA programs designed to help beneficiaries find and keep jobs;

• Thoughts about SSDI based on personal experience or associations with SSDI beneficiaries and others, the likelihood of receiving benefits due to changes in one's personal health status, the impact of reduced financial resources, and factors considered when deciding whether to apply for SSDI;

• Opinions and reactions to how impairments described in brief vignettes of work-limiting and disabling experiences may affect current or future employment; and

• The impact of the COVID-19 pandemic on employment or participation in SSDI or other safety net programs.

The DPS is targeting 5,011 completed interviews among 18-64 year old adults across the U.S. population.

Recruitment

NORC will sample respondents for the study through NORC's AmeriSpeak sampling frame. AmeriSpeak uses a multi-stage probability sample that fully represents the U.S. household population. NORC uses a two-stage process for AmeriSpeak panel recruitment:

• Initial recruitment: NORC will invite panelists to participate in the DPS by email and or SMS text, with an invitation through the AmeriSpeak member web portal, which alerts panelist there is a survey available to them. The participant will receive an email with the survey URL which allows them to log into AmeriSpeak. NORC will also invite panelists who previously indicated their preference for responding to surveys by telephone. For those who request a telephone survey, NORC's telephone interviewers will call the respondent and ask them to participate in the survey, if the respondent wants to participate NORC will conduct the survey.

• Non-response follow-ups: NORC will sample a portion of non-responders and follow-up with a face-to face recruitment of the sampled non-responders. Non-response follow-up reduces non-response bias significantly by improving the representativeness of the AmeriSpeak Panel with respect to certain hard-to-reach segments of the population underrepresented by recruitment relying only on mail and telephone.

Eligibility criteria include those ages 18-64 years old who understand English or Spanish, and who have the ability to provide informed consent as well as a Social Security Number.

Participants in the DPS will receive the Informed Consent as part of the first screens of the survey. If NORC conducts the survey by telephone, the interviewer will review the main points on the consent with the participant. The Informed Consent, whether online or read by the interviewer, will include:

• The purpose of the survey and the primary topics addressed in the survey questions;

• The information that the respondents may withdraw at any time;

• The voluntary nature of the study;

• A statement that the information collected is completely confidential and will not be used by SSA for the purposes of determining eligibility for benefits, nor for purposes other than research or program evaluation;

• The approximate time it will take to complete the survey;

• The incentive amount for participation, and how the respondent will receive their incentive;

• Information on who to call if they have questions about their rights as a survey participants;

If the respondents give their informed consent, but cannot provide their SSN, the survey will end, and the respondent will not continue further. Survey participants will receive $20 as reimbursement for completing the DPS.

Following the emailing of the survey URL, NORC will follow up 10 times over the course of a 32-week field period to remind respondents to complete the survey. NORC will send the participants reminder scripts both by email and text messages to complete the survey. NORC will also send reminders by mail, via a reminder letter and postcard. The respondents are working adults (age 18-64) SSDI program recipients, and those who may qualify for SSDI benefits for SSDI benefits.

Type of Request: Request for a new information collection.

Modality of completion | Number of respondents | Frequency of response | Average burden per response (minutes) | Estimated total annual burden (hours) | Average theoretical hourly cost amount (dollars) * | Total annual opportunity cost (dollars) **
DPS (Web version) | 4,259 | 1 | 17 | 1,207 | * $11.70 | ** $14,122
DPS (Phone version) | 752 | 1 | 17 | 213 | * 11.70 | ** 2,492
Totals | 5,011 |  |  | 1,420 |  | 16,614
* We based this figure on the average DI payments based on SSA's current FY 2022 data (https://www.ssa.gov/legislation/2022factsheet.pdf).
** This figure does not represent actual costs that SSA is imposing on recipients of Social Security payments to complete this application; rather, these are theoretical opportunity costs for the additional time respondents will spend to complete the application. There is no actual charge to respondents to complete the application.

2. Application for Widow's or Widower's Insurance Benefits—20 CFR 404.335-404.338, & 404.603—0960-0004. Section 2029(e) and 202(f) of the Act set forth the requirements for entitlement to widow(er)'s benefits, including the requirements to file an application. For SSA to make a formal determination for entitlement to widow(er)'s benefits, we use Form SSA-10 to determine whether an applicant meets the statutory and regulatory conditions for entitlement to widow(er)'s Title II benefits. SSA employees interview individuals applying for benefits either face-to-face or via telephone, and enter the information on the paper form or into the Modernized Claims System (MCS). The respondents are applicants for widow(er)'s benefits.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-10 (Paper) | 2,116 | 1 | 30 | 1,058 | * 28.01 |  | *** 29,635
SSA-10 (MCS) | 570,540 | 1 | 30 | 285,270 | * 28.01 | ** 21 | *** 13,583,702
Totals | 572,656 |  |  | 286,328 |  |  | *** 13,613,337
* We based this figure on the average U.S. worker's hourly wages, as reported by Bureau of Labor Statistics data (https://www.bls.gov/oes/current/oes_nat.htm).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

3. Request to be Selected as a Payee—20 CFR 404.2010-404.2055, 416.601-416.665—0960-0014. SSA requires an individual applying to be a representative payee for a Social Security beneficiary or Supplemental Security Income (SSI) recipient to complete Form SSA-11-BK, or supply the same information to a field office technician. SSA obtains information from applicant payees regarding their relationship to the beneficiary, personal qualifications; concern for the beneficiary's well-being; and intended use of benefits if appointed as payee. The respondents are individuals, private sector businesses and institutions, and State and local government institutions and agencies applying to become representative payees.

Type of Request: Revision of an OMB approved information collection.

Individuals/Households (90%)
Modality of collection | Number of respondents | Frequency of response | Average burden per response (minutes) | Estimated annual burden (hours) | Average theoretical hourly cost amount (dollars) * | Average wait time in field office or teleservice centers (minutes) ** | Total annual opportunity cost (dollars) ***
Representative Payee System (RPS) | 1,761,300 | 1 | 12 | 352,260 | * 39 | ** 21 | *** 37,779,885
Paper Version | 70,452 | 1 | 12 | 14,090 | * 39 |  | *** 549,510
Total | 1,831,752 |  |  | 366,350 |  |  | *** 38,329,395

Private Sector (9%)
Modality of collection | Number of respondents | Frequency of response | Average burden per response (minutes) | Total annual burden (hours) | Average theoretical hourly cost amount (dollars) * | Average wait time in field office or teleservice centers (minutes) ** | Total annual opportunity cost (dollars) ***
Representative Payee System (RPS) | 176,130 | 1 | 12 | 35,226 | * 39 | ** 21 | *** 3,778,008
Paper Version | 7,045 | 1 | 12 | 1,409 | * 39 |  | *** 54,951
Total | 183,175 |  |  | 36,635 |  |  | *** 3,832,959

State/Local/Tribal Government (1%)
Modality of collection | Number of respondents | Frequency of response | Average burden per response (minutes) | Total annual burden (hours) | Average theoretical hourly cost amount (dollars) * | Average wait time in field office or teleservice centers (minutes) ** | Total annual opportunity cost (dollars) ***
Representative Payee System (RPS) | 19,570 | 1 | 12 | 3,914 | * 39 | ** 21 | *** 419,796
Paper Version | 350 | 1 | 12 | 70 | * 39 |  | *** 2,730
Total | 19,920 | 1 | 12 | 3,984 | * 39 |  | *** 422,526
Grand Total | 2,034,847 |  |  | 406,969 |  |  | *** 42,584,880
* We based these figures by averaging the average hourly wages for Social and Human Service Assistants (https://www.bls.gov/oes/current/oes211093.htm); average hourly wages for Lawyers (https://www.bls.gov/oes/current/oes231011.htm); and the average U.S. worker's hourly wages, as reported by Bureau of Labor Statistics data (https://www.bls.gov/oes/current/oes_nat.htm).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

4. Statement for Determining Continuing Eligibility for Supplemental Security Income Payment—20 CFR 416.204—0960-0145. SSA uses Form SSA-8202-BK to conduct low and middle-error profile (LEP/MEP) telephone, or face-to-face redetermination interviews with SSI recipients and representative payees, if applicable. SSA conducts LEP redeterminations interviews on a 6-year cycle, and MEP redeterminations annually. SSA requires the information we collect during the interview to determine whether: (1) SSI recipients met, and continue to meet, all statutory and regulatory requirements for SSI eligibility; and (2) the SSI recipients received, and are still receiving, the correct payment amounts. This information includes non-medical eligibility factors such as income, resources, and living arrangements. To complete Form SSA-8202-BK, the respondents may need to obtain information from employers or financial institutions. The respondents are SSI recipients and their representatives, if applicable.

Type of Request: Revision of an OMB-approved information collection.

Modality of completion | Number of respondents | Frequency of response | Average burden per response (minutes) | Estimated total annual burden (hours) | Average theoretical hourly cost amount (dollars) * | Average wait time in field office or teleservice centers (minutes) ** | Total annual opportunity cost (dollars) ***
SSA-8202-BK | 67,698 | 1 | 21 | 23,694 | * 11.70 |  | *** 277,220
SSI Claims System | 1,764,207 | 1 | 20 | 588,069 | * 11.70 | ** 21 | *** 14,104,830
Totals | 1,831,905 |  |  | 611,763 |  |  | ***14,382,050
* We based this figure on the average DI payments based on SSA's current FY 2022 data (https://www.ssa.gov/legislation/2022factsheet.pdf).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

5. Application for Supplemental Security Income—20 CFR 416.305-416.335, Subpart C—0960-0444. SSA uses Form SSA-8001-BK to determine an applicant's eligibility for SSI and SSI payment amounts. SSA employees also collect this information during interviews with members of the public who wish to file for SSI. SSA uses the information for two purposes: (1) To formally deny SSI for nonmedical reasons when information the applicant provides results in ineligibility; or (2) to establish a disability claim, but defer the complete development of non-medical issues until SSA approves the disability. The respondents are applicants for SSI payments.

Type of Request: Revision of an OMB-approved information collection.

Modality of completion | Number of respondents | Frequency of response | Average burden per response (minutes) | Estimated total annual burden (hours) | Average theoretical hourly cost amount (dollars) * | Average wait time in field office or teleservice centers (minutes) ** | Total annual opportunity cost (dollars) ***
SSI Claims System | 800,963 | 1 | 20 | 266,988 | * 19.86 | ** 21 | *** 10,869,875
iClaim and SSI Claims System | 129,736 | 1 | 20 | 43,245 | * 19.86 | ** 21 | *** 1,760,649
SSA-8001-BK (Paper Version) | 31,776 | 1 | 20 | 10,592 | * 19.86 | ** 21 | *** 431,240
Totals | 962,475 |  |  | 320,825 |  |  | *** 13,061,764
* We based this figure by averaging both the average DI payments based on SSA's current FY 2022 data (https://www.ssa.gov/legislation/2022factsheet.pdf), and the average U.S. worker's hourly wages, as reported by Bureau of Labor Statistics data (https://www.bls.gov/oes/current/oes_nat.htm).
** We based this figure by averaging the average FY 2022 wait times for field offices and teleservice centers, based on SSA's current management information data.
*** This figure does not represent actual costs that SSA is imposing on recipients of Social Security payments to complete this application; rather, these are theoretical opportunity costs for the additional time respondents will spend to complete the application. There is no actual charge to respondents to complete the application.

6. Employer Verification of Records for Children Under Age 7—20 CFR 404.801-404.803, 404.821-404.822-0960-0505. To ensure we credit the correct person with the reported earnings, SSA verifies wage reports for children under age seven with the children's employers before posting to the earnings record. SSA uses form SSA-L3231, Request for Employer Information for this purpose. SSA technicians mail the form to the employer(s) and request they complete it and mail it back to the appropriate processing center. The respondents are employers who report earnings for children under age seven.

Type of Request: Revision of an OMB-approved information collection.

Modality of completion | Number of respondents | Frequency of response | Average burden per response (minutes) | Estimated total annual burden (hours) | Average theoretical hourly cost amount (dollars) * | Total annual opportunity cost (dollars) **
SSA-L3231 | 4,633 | 1 | 10 | 772 | * 28.01 | ** 21,624
* We based this figure on the average U.S. worker's hourly wages, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

7. Wage Reports and Pension Information—20 CFR 422.122(b)—0960-0547. Pension plan administrators annually file plan information with the Internal Revenue Service, which then forwards the information to SSA. SSA maintains and organizes this information by plan number, plan participant's name, and Social Security number. Per Section 1131(a) of the Act, pension plan participants are entitled to request this information from SSA. The Wage Reports and Pension Information regulation, 20 CFR 422.122(b) of the Code of Federal Regulations, stipulates that before SSA disseminates this information, the requestor must first submit a written request with identifying information to SSA. The respondents are requestors of pension plan information.

Type of Request: Revision of an OMB-approved information collection.

Modality of completion | Number of respondents | Frequency of Response | Average burden per response (minutes) | Estimated total annual burden (hours) | Average theoretical hourly cost amount (dollars) * | Average wait time for teleservice centers (minutes) ** | Total annual opportunity cost (dollars) ***
Requests for Pension Plan Information | 580 | 1 | 30 | 290 | * 28.01 | ** 19 | *** 13,277
* We based this figure on the average U.S. worker's hourly wages, as reported by Bureau of Labor Statistics data (https://www.bls.gov/oes/current/oes_nat.htm).
** We based this figure on the average FY 2022 wait times for teleservice centers, based on SSA's current management information data.
*** This figure does not represent actual costs that SSA is imposing on recipients of Social Security payments to complete this application; rather, these are theoretical opportunity costs for the additional time respondents will spend to complete the application. There is no actual charge to respondents to complete the application.

8. Centenarian and Medicare Non-Utilization Project Development Worksheets: Face-to-Face Interview and Telephone Interview—20 CFR 416.204(b) and 422.135—0960-0780. SSA conducts interviews with centenary Title II beneficiaries and Title XVI recipients, and Medicare Non-Utilization Project (MNUP) beneficiaries age 90 and older to: (1) Assess if the beneficiaries are still living; (2) prevent fraud through identity misrepresentation; and (3) evaluate the well-being of the recipients to determine if they need a representative payee, or a change in representative payee. SSA field office personnel obtain the information through one-time, in-person interviews with the centenarians and MNUP beneficiaries, who are those Title II beneficiaries ages 90-99, who show non-utilization of Medicare benefits for an extended period and the absence of private insurance, health maintenance organization, or nursing home, which are all indicators that an individual may be deceased. If the centenarians and MNUP beneficiaries have representatives or caregivers, SSA personnel invite them to the interviews. During these interviews, SSA employees make overall observations of the centenarians, MNUP beneficiaries, and their representative payees (if applicable). The interviewer uses the appropriate Development Worksheet as a guide for the interview, in addition to documenting findings during the interview. SSA conducts the interviews either over the telephone or through a face-to-face discussion with the respondents either in a field office, or at the Centenarian or MNUP beneficiary's residence. Respondents are MNUP and Centenarian beneficiaries, and their representative payees, or their caregivers.

Type of Request: Revision of an OMB-approved information collection.

Modality of completion | Number of respondents | Frequency of response | Average burden per response (minutes) | Estimated total annual burden (hours) | Average theoretical hourly cost amount (dollars) ** | Average wait time in field office or teleservice centers (minutes) *** | Total annual opportunity cost (dollars) ****
Centenarian Project—Title XVI Only * | 194 | 1 | 15 | 49 | ** 28.01 | *** 21 | **** 3,277
MNUP—All Title II Responses | 4,210 | 1 | 15 | 1,053 | ** 28.01 | *** 21 | **** 70,781
Totals | 4,404 |  |  | 1,102 |  |  | **** 74,058
* Some cases are T2 rollovers from prior Centenarian workloads.
** We based this figure on the average U.S. worker's hourly wages, as reported by Bureau of Labor Statistics data (https://www.bls.gov/oes/current/oes_nat.htm
*** We based this figure by averaging the average FY 2022 wait times for field offices and teleservice centers, based on SSA's current management information data.
**** This figure does not represent actual costs that SSA is imposing on recipients of Social Security payments to complete this application; rather, these are theoretical opportunity costs for the additional time respondents will spend to complete the application. There is no actual charge to respondents to complete the application.

9. COVID-19 Symptoms Screener for In-Person Hearings, and VIPr Mobile Application and Telephone Screener for Office visits—20 CFR 404.929, 404.933, 416.1429, 416.1433, 418.1350, 422.103-422.110, and 422.203—0960-0824.

Background

During the recent COVID-19 pandemic, SSA conducted its services almost exclusively online or by telephone, to protect the health of both the public and our employees. We took these measures in accordance with relevant Centers for Disease Control COVID-19 pandemic guidance, and to comply with existing Occupational Safety and Health Act provisions regarding workplace safety.

We have resumed in-person hearings, as well as in-person field office visits. We use the current CDC-suggested COVID-19 screening symptoms questionnaire for people coming in for in-person vists. The questionnaire for in-office visits is available via telephone, SSA mobile application (VIPr App), or kiosk. We require satisfactory answers to the screening questions, i.e., demonstrating that field office visitors did not demonstrate symptoms of COVID-19 and had not been exposed to someone with COVID-19, for the appointment to proceed. If the individuals answered yes to any of the COVID screening questions, we offer them the option of completing their interview via video teleconferencing or using our online options, or we offer to reschedule their in-person interview for a later date.

Information Collection Description

Because of COVID-19 health and safety considerations, we plan to continue requiring all members of the public entering an SSA field office for a visit, or a hearing office to participate in an in-person hearing, to complete a brief screener questionnaire designed to identify COVID-19 symptoms.

For individuals visiting a hearings office, we provide a link to the screener questionnaire in the mailed notice of scheduled hearings. People participating in a hearing can complete and submit the questionnaire online within 24 hours before the start of the hearing. If hearings participants do not wish to use the internet, they can call the hearings office where the hearing is scheduled and complete the questionnaire over the phone.

Similarly, we will give field office visitors the option of completing the screener questionnaire either via telephone or through SSA's mobile application, VIPr, prior to entering the building. As part of our pre-screening questions prior to scheduling an appointment, we will remind potential visitors of our telephone and internet options, will explain our mask requirement policy, and will administer a brief screener questionnaire designed to identify COVID-19 symptoms. For those members of the public who do not schedule an appointment, we have a poster in our field office windows visible from the outside instructing visitors about the need to complete the screening questionnaire and about our masking policies.

Regardless of whether an individual schedules an appointment or visits a field office without prior scheduling, we will continue to request satisfactory completion of the screener in advance of entering the building as a prerequisite for entering the field office.

SSA's screener questionnaire asks questions relating to personal experience of any COVID symptoms; exposure to someone diagnosed with COVID; or travel by means other than land travel, such as car, bus, ferry, or train. SSA uses the screener responses to determine if the participant is “cleared” or “not cleared” to enter an SSA field or hearing office. If participants answer “no” to all questions, they are “cleared” to participate. If they answer “yes” to any part of the screener, they will be considered “not cleared.” Individuals who are not cleared may request SSA to reschedule their visit at least 14 days after the COVID-19 symptoms first presented, or 14 days after they tested positive for COVID-19.

Alternatives to Completing the Information Collection

Although we will continue to require completion of the screener questionnaire for any in-person hearing or field office visit, we do not require this screener questionnaire for other modalities of appeals hearings, or field office services. One may choose an online video hearing or telephone hearing as an alternative to an in-person hearing, just as we also have online and telephone services for field office transactions. Claimants may obtain Social Security payments regardless of the hearing method they choose, and field office visitors may submit their documentation using our internet services, telephone requests, or by mailing their documentation to SSA.

The respondents are beneficiaries or applicants requesting an in-person hearing, or members of the public entering a field office.

Type of Request: Revision of an OMB-approved information collection.

Modality of completion | Number of respondents | Frequency of response | Average burden per response (minutes) | Estimated total annual burden (hours) | Average theoretical hourly cost amount (dollars) * | Average wait time in office or for teleservice centers (minutes) ** | Total annual opportunity cost (dollars) ****
COVID Screener Questionnaire | 359,160 | 1 | 10 | 59,860 | * 19.86 | ** 10 | **** 2,377,639
VIPr Mobile App | 16,554 | 1 | 5 | 1,380 | * 28.01 | *** 21 | **** 200,944
Telephone Screener | 661,554 | 1 | 10 | 110,259 | * 28.01 | *** 21 | **** 9,573,902
Totals | 1,037,268 |  |  | 171,499 |  |  | **** 12,152,485
* We based the Covid Screener Questionnaire figure on averaging both the average DI payments based on SSA's current FY 2022 data (https://www.ssa.gov/legislation/2022factsheet.pdf), and the average U.S. worker's hourly wages, as reported by Bureau of Labor Statistics data (https://www.bls.gov/oes/current/oes_nat.htm). We based the VIPr Mobile App and Telephone Screener on the average U.S. worker's hourly wages, as reported by Bureau of Labor Statistics data (https://www.bls.gov/oes/current/oes_nat.htm).
** We based this figure on the average FY 2022 wait times for hearing offices, based on SSA's current management information data.
*** We based this figure on the average FY 2022 wait times for field offices and teleservice centers, based on SSA's current management information data.
**** This figure does not represent actual costs that SSA is imposing on recipients of Social Security payments to complete this application; rather, these are theoretical opportunity costs for the additional time respondents will spend to complete the application. There is no actual charge to respondents to complete the application.

Dated: May 25, 2022.
Naomi Sipple,
Reports Clearance Officer, Social Security Administration.

[FR Doc. 2022-11685 Filed 5-31-22; 8:45 am]

BILLING CODE 4191-02-P